DEPARTMENT OF ENERGY

Federal Energy Regulatory Commission

Combined Notice of Filings #1

Take notice that the Commission received the following electric corporate filings:

Docket Numbers: EC17-2-000.

Applicants: North Lancaster Ranch LLC.

Description: Application for Authorization under Section 203 of the Federal Power Act, Request for Expedited Consideration and Confidential Treatment of North Lancaster Ranch LLC.

Filed Date: 10/4/16.

Accession Number: 20161004-5167.

Comments Due: 5 p.m. ET 10/25/16.

Take notice that the Commission received the following electric rate filings:

Docket Numbers: ER16-2708-000.

Applicants: Exelon West Medway II, LLC.

Description: Baseline eTariff Filing: Initial MBR Tariff Filing to be effective 10/1/2016.

Filed Date: 9/30/16.

Accession Number: 20160930-5394.

Comments Due: 5 p.m. ET 10/21/16.

Docket Numbers: ER17-13-000.

Applicants: PacifiCorp.

Description: § 205(d) Rate Filing: BPA NITSA (CEC Load) to be effective 10/1/2016.

Filed Date: 10/4/16.

Accession Number: 20161004-5076.

Comments Due: 5 p.m. ET 10/25/16.

Docket Numbers: ER17-14-000.

Applicants: Big Turtle Wind Farm, LLC.

Description: § 205(d) Rate Filing: Certificate of Concurrence Filing to be effective 9/20/2016.

Filed Date: 10/4/16.

Accession Number: 20161004-5099.

Comments Due: 5 p.m. ET 10/25/16.

Docket Numbers: ER17-15-000.

Applicants: Midcontinent Independent System Operator, Inc.

Description: § 205(d) Rate Filing: 2016-10-04_3rd Quarter MISO Tariff Clean-Up Filing to be effective 10/5/2016.

Filed Date: 10/4/16.

Accession Number: 20161004-5101.

Comments Due: 5 p.m. ET 10/25/16.

Docket Numbers: ER17-16-000.

Applicants: Golden Spread Electric Cooperative, Inc.

Description: Compliance filing: OATT Order No. 827 828 661 Compliance Filing to be effective 10/14/2016.

Filed Date: 10/5/16.

Accession Number: 20161005-5031.

Comments Due: 5 p.m. ET 10/26/16.

Docket Numbers: ER17-17-000.

Applicants: Essential Power, LLC.

Description: § 205(d) Rate Filing: MBR Tariff Revisions re Order No. 819 to be effective 10/6/2016.

Filed Date: 10/5/16.

Accession Number: 20161005-5033.

Comments Due: 5 p.m. ET 10/26/16.

Docket Numbers: ER17-18-000.

Applicants: James River Genco, LLC.

Description: § 205(d) Rate Filing: Third Party Ancillary Services Revisions re Order No. 819 to be effective 10/6/2016.

Filed Date: 10/5/16.

Accession Number: 20161005-5034.

Comments Due: 5 p.m. ET 10/26/16.

Docket Numbers: ER17-19-000.

Applicants: Red Oak Power, LLC.

Description: § 205(d) Rate Filing: Revised MBR Tariff re Order No. 819 to be effective 10/6/2016.

Filed Date: 10/5/16.

Accession Number: 20161005-5035.

Comments Due: 5 p.m. ET 10/26/16.

Docket Numbers: ER17-20-000.

Applicants: Rhode Island State Energy Center, LP.

Description: § 205(d) Rate Filing: Revised MBR Tariff re Order No. 819 to be effective 10/6/2016.

Filed Date: 10/5/16.

Accession Number: 20161005-5037.

Comments Due: 5 p.m. ET 10/26/16.

Docket Numbers: ER17-21-000.

Applicants: Elevation Energy Group, LLC.

Description: Baseline eTariff Filing: Market-Based Rates Tariff to be effective 10/6/2016.

Filed Date: 10/5/16.

Accession Number: 20161005-5052.

Comments Due: 5 p.m. ET 10/26/16.

Docket Numbers: ER17-22-000.

Applicants: Virginia Electric and Power Company, PJM Interconnection, L.L.C.

Description: § 205(d) Rate Filing: Dominion and Duke Energy Progress submit amended Interconnection Agreement 3453 to be effective 9/28/2016.

Filed Date: 10/5/16.

Accession Number: 20161005-5056.

Comments Due: 5 p.m. ET 10/26/16.

Docket Numbers: ER17-23-000.

Applicants: Southwestern Public Service Company.

Description: § 205(d) Rate Filing: SPS-OrWR-682-0.1.0-NOC to be effective 10/6/2016.

Filed Date: 10/5/16.

Accession Number: 20161005-5057.

Comments Due: 5 p.m. ET 10/26/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 5, 2016.
Nathaniel J. Davis, Sr.,
Deputy Secretary.

[FR Doc. 2016-24760 Filed 10-12-16; 8:45 am]

BILLING CODE 6717-01-P